DEPARTMENT OF TRANSPORTATION

Research and Special Programs Administration

Office of Hazardous Materials Safety

Notice of Applications for Modification of Exemption

AGENCY: Research and Special Programs Administration, DOT.

ACTION: List of Applications for Modification of Exemptions.

SUMMARY: In accordance with the procedures governing the application for, and the processing of, exemptions from the Department of Transportation's Hazardous Materials Regulations (49 CFR part 107, subpart B), notice is hereby given that the Office of Hazardous Materials Safety has received the application described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before June 10, 2002.

ADDRESSES: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemptions is published in accordance with part 107 of the Federal hazardous materials transportation law (49 U.S.C. 5117(b); 49 CFR 1.53(b)).

Issued in Washington, DC, on May 21, 2002.
J. Suzanne Hedgepeth,
Director, Office of Hazardous Materials Exemptions and Approvals.

Application number` | Docket number | Applicant | Modification of exemption
7657-M |  | Welker Engineering Company, Sugar Land, TX (See Footnote 1) | 7657
8125-M |  | Bristol Bay Contractors, Inc., King Salmon, AK (See Footnote 2) | 8125
8915-M |  | E.I. DuPont de Nemours and Company, Wilmington, DE (See Footnote 3) | 8915
9508-M |  | Callery Chemical Company, Pittsburgh, PA (See Footnote 4) | 9508
10882-M |  | Espar Products, Inc., Mississauga, Ontario L5T 1Z8, CN (See Footnote 5) | 10882
12102-M | RSPA-98-4005 | Onyx Environmental Services, L.L.C., Ledgewood, NJ (See Footnote 6) | 12102
12882-M | RSPA-01-11125 | Eagle-Picher Technologies, LLC, Joplin, MO (See Footnote 7) | 12882
(1) To modify the exemption to authorize the transportation of additional Division 2.1, 2.2, 2.3 and Class 3 materials in a non-DOT specification stainless steel cylinder.
(2) To modify the exemption to authorize the installation of a nozzle for a roto gage in the non-DOT specification IMO Type 5 portable tank for the transportation of certain Division 2.1, 2.2 and Class 3 materials.
(3) To modify the exemption to authorize the transportation of an additional Division 2.1 material in a manifolded DOT Specification cylinder.
(4) To modify the exemption to authorize the transportation of an additional Division 4.3 material in DOT Specification cylinders.
(5) To modify the exemption to authorize the use of additional temperature controlled systems for use in motor vehicles transporting Division 2.1 and Class 3 materials.
(6) To modify the exemption to authorize the transportation of an additional Division 1.1D explosive material desensitized in an appropriate solvent to be shipped as a Class 3 material.
(7) To reissue the exemption originally issued on an emergency basis for the transportation of a Division 2.1 material in a non-DOT specification pressure vessel.

[FR Doc. 02-13129 Filed 5-23-02; 8:45 am]

BILLING CODE 4910-60-M